DEPARTMENT OF ENERGY

Federal Energy Regulatory Commission

[Docket No. PF06-22-000]

AES Sparrows Point LNG, LLC and Mid-Atlantic Express, LLC; Notice of Intent To Prepare an Environmental Impact Statement for the Proposed Sparrows Point Project, Request for Comments on Environmental Issues and Notice of a Joint Public Meeting

May 16, 2006.

The staff of the Federal Energy Regulatory Commission (FERC or Commission) and the U.S. Department of Homeland Security, U.S. Coast Guard (Coast Guard) are in the process of evaluating the Sparrows Point Liquefied Natural Gas (LNG) Project planned by AES Sparrows Point LNG, LLC (AES) and the associated pipeline planned by Mid-Atlantic Express LLC (Mid-Atlantic Express). The project would consist of an onshore LNG import and storage terminal located on the west shore of Sparrows Point, south of Dundalk, Maryland, and an approximately 87-mile natural gas sendout pipeline, extending north from the terminal to interconnects with existing pipelines of Transco, Tetco, and Columbia Gas Transmission near Eagle, Pennsylvania.

As a part of this evaluation, FERC staff will prepare an environmental impact statement (EIS) that will address the environmental impacts of the project and the Coast Guard will assess the maritime safety and security of the project. As described below, the FERC and the Coast Guard will hold a joint public meeting at Sparrows Point to allow the public to provide input to these assessments. The FERC will host additional public meetings along the pipeline route to provide input to the assessment of the pipeline component of the project.

The Commission will use the EIS in its decision-making process to determine whether or not to authorize the project. This Notice of Intent (NOI) explains the scoping process we ¹ will use to gather information on the project from the public and interested agencies and summarizes the process that the Coast Guard will use. Your input will help identify the issues that need to be evaluated in the EIS and in the Coast Guard's maritime safety and security assessment. Please note that scoping comments are requested by June 16, 2006.

¹ “We,” “us,” and “our” refer to the environmental staff of the FERC's Office of Energy Projects.

Comments on the project may be submitted in written form or verbally. Further details on how to submit written comments are provided in the Public Participation section of this NOI. In lieu of sending written comments, we invite you to attend any of the following public scoping meetings or site visits scheduled as follows:

Monday, June 5, 2006, 7 p.m.:

North Point/Edgemere Volunteer Fire Co., 7500 North Point Road, Sparrows Point, MD, 410-477-1310.

Tuesday, June 6, 2006, 7 p.m.:

East Brandywine Fire Hall, 2096 Bondsville Road, Downingtown, PA, 610-269-1817.

Wednesday, June 7, 2006, 7 p.m.:

Harford Community College, 401 Thomas Run Road, Bel Air, MD, 410-836-4000.

FERC will be conducting a site visit of the proposed project route over a two-day period. The tour each day will begin and end at the locations and times listed below. Please note that no private property will be entered and all locations of anticipated alignment of the project pipeline will be viewed from public rights-of-way.

Tour Day 1, June 6, 2006

Tour Start Location—Sparrows Point Shipyard. Note: The Shipyard may not be open to the public on the day of the tour depending upon site work scheduled that day. Persons wishing to enter the Shipyard site must have photo identification. The Shipyard may not be entered without a security escort and all tour participants will need to meet in a marshalling area outside the security entrance for Sparrows Point Shipyard at the location shown on the map in Appendix 1. Follow signs for Bethlehem Blvd. west off of Rt 695 at Sparrows Point. Bethlehem Blvd. will turn into Riverside Drive as you near Bear Creek on the west side of Sparrows Point. Take the right hand turn at the flashing sign that says “All Shipyard Traffic to Sparrows Point” and park in the parking area before the security guard trailer.

Tour Start Time—8 a.m. The tour will depart promptly at 8:15 a.m. and will proceed from the marshalling area northerly along the proposed primary pipeline route. All attendees must provide their own transportation. Several locations that are publicly accessible will be visited along the route section between Sparrows Point and Bel Air, MD where the tour will end on Day 1. The Day 1 Tour will end on or near Walter's Mill Road north of Bel Air, MD, by 1 p.m.

Tour Day 2, June 7, 2006

Tour Start Location—East Brandywine Fire Hall, 2096 Bondsville Road, near the intersection of Bondsville Road and Route 322. Tour Start Time—8 a.m. The Day 2 Tour will view the proposed pipeline route starting from an existing Columbia Gas Transmission compressor station in Eagle, PA, and will proceed south. All attendees must provide their own transportation. Several locations that are publicly accessible will be visited along the route section between Eagle, PA and Bel Air, MD where the tour will end on Day 2. The Day 2 Tour will end south of the Susquehanna River and north of Bel Air, MD in the area of Walter's Mill Road, by 1 p.m.

The first public scoping meeting listed above (Sparrows Point, MD) will be combined with the Coast Guard's public meeting regarding the maritime safety and security of the project. At the meeting, the Coast Guard will discuss: (1) The waterway suitability assessment that the applicant will conduct to determine whether or not the waterway can safely accommodate the LNG carrier traffic and operation of the planned LNG marine terminal; and (2) the facility security assessment that the applicant will conduct in accordance with the regulations of the Maritime Transportation Security Act to assist with the preparation of a Facility Security Plan. The Coast Guard will not be issuing a separate meeting notice for the maritime safety and security aspects of the project.

The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in Title 33 CFR 105, and recommendation for siting as it pertains to the management of vessel traffic in and around the LNG facility.

Upon receipt of a letter of intent from an owner or operator intending to build a new LNG facility, the Coast Guard Captain of the Port (COTP) conducts an analysis that results in a letter of recommendation issued to the owner or operator and to the state and local governments having jurisdiction, addressing the suitability of the waterway to accommodate LNG vessels. Specifically the letter of recommendation addresses the suitability of the waterway based on:

• The physical location and layout of the facility and its berthing and mooring arrangements.

• The LNG vessels' characteristics and the frequency of LNG shipments to the facility.

• Commercial, industrial, environmentally sensitive, and residential area in and adjacent to the waterway used by the LNG vessels en route to the facility.

• Density and character of the marine traffic on the waterway.

• Bridges or other manmade obstructions in the waterway.

• Depth of water.

• Tidal range.

• Natural hazards, including rocks and sandbars.

• Underwater pipelines and cables.

• Distance of berthed LNG vessels from the channel, and the width of the channel.

In addition, the Coast Guard will review and approve the facility's operations manual and emergency response plan (33 CFR 127.019), as well as the facility's security plan (33 CFR 105.410). The Coast Guard will also provide input to other federal, state, and local government agencies reviewing the project.

In order to complete a thorough analysis and fulfill the regulatory mandates cited above, the applicant will be conducting a Waterway Suitability Assessment, a formal risk assessment evaluating the various safety and security aspects associated with the Sparrows Point LNG proposed project. This risk assessment will be accomplished through a series of workshops focusing on the areas of waterways safety, port security, and consequence management, with involvement from a broad cross-section of government and port stakeholders with expertise in each of the respective areas. The workshops will be by invitation only. However, comments received during the public comment period will be considered as input in the risk assessment process. The results of the Waterway Suitability Assessment will be submitted to the Coast Guard to be used in determining whether the waterway is suitable for LNG traffic.

This NOI is being sent to Federal, state, and local government agencies; elected officials; affected landowners; environmental and public interest groups; Indian tribes and regional Native American organizations; commentors and other interested parties; and local libraries and newspapers. We encourage government representatives to notify their constituents of this planned project and encourage them to comment on their areas of concern.

Summary of the Proposed Project

The proposed project will consist of a 1.5 billion standard cubic feet per day (bscfd) LNG import terminal with unloading platforms, process equipment, boil-off compression system, and storage tanks, and a 28-inch-diameter, 87-mile send-out pipeline with ancillary facilities such as metering and flow-control facilities.

LNG Terminal Marine Facility

The Sparrows Point LNG Terminal will consist of the following:

• 500-foot marine finger pier/access trestle and unloading platform, supporting two unloading berths;

• Breasting and mooring dolphins;

• Turning basin and entrance channel

• Aids to navigation;

• Retractable security barrier;

• Three 1 million barrel (160,000 m³) net capacity full containment LNG storage tanks.

• Process equipment;

• Boil-off gas (BOG) compression system; and

• Electrical, control, and hazard protection system.

Sendout Pipeline

The Mid-Atlantic Express sendout pipeline will consist of the following:

• A 87-mile, 28-inch-diameter natural gas pipeline with capacity to deliver 1.5 bscfd, and a maximum allowable operating pressure (MAOP) of 2200 pounds per square inch (psig).

• A SCADA system for remote monitoring, control and leak detection;

• Local interconnections with the Baltimore Gas & Electric (BG&E) pipeline system;

• Three interconnections with Columbia, Tetco and Transco pipeline systems near Eagle, PA.

• Mainline valve facilities, at approximately four to six locations;

• Metering, flow control/pressure control, and security systems; and

• Scrapper launcher/receiver facilities (pigging facilities).

AES and Mid-Atlantic Express propose to begin construction of the project in mid-2007 with a projected in-service date of the 1st quarter of 2011.

A location map depicting AES's proposed facilities, including its preferred pipeline route and several pipeline options, is attached to this NOI as Appendix 1 (Figures 1 and 2).²

² The appendices referenced in this notice are not being printed in the Federal Register. Copies are available on the Commission's Web site (excluding maps) at the “e-Library” link or from the Commission's Public Reference Room or call (202) 502-8371. For instructions on connecting to e-Library refer to the end of this notice. Copies of the appendices were sent to all those receiving this notice in the mail.

The EIS Process

The NEPA requires the Commission to take into account the environmental impacts that could result from an action when it considers whether or not an LNG import terminal or an interstate natural gas pipeline should be approved. The FERC will use the EIS to consider the environmental impacts that could result if it issues project authorizations to AES and Mid-Atlantic Express under sections 3 and 7 of the Natural Gas Act. The NEPA also requires us to discover and address concerns the public may have about proposals. This process is referred to as “scoping.” The main goal of the scoping process is to focus the analysis in the EIS on the important environmental issues. With this NOI, the Commission staff is requesting public comments on the scope of the issues to be addressed in the EIS. All comments received will be considered during preparation of the EIS.

In the EIS we will discuss impacts that could occur as a result of the construction, operation, maintenance, and abandonment of the proposed project under these general headings:

• Geology and Soils

• Water Resources

• Aquatic Resources

• Vegetation and Wildlife

• Threatened and Endangered Species

• Land Use, Recreation, and Visual Resources

• Cultural Resources

• Socioeconomics

• Marine Transportation

• Air Quality and Noise

• Reliability and Safety

• Cumulative Impacts

In the EIS, we will also evaluate possible alternatives to the proposed project or portions of the project, and make recommendations on how to lessen or avoid impacts on affected resources.

Our independent analysis of the issues will be included in a draft EIS. The draft EIS will be mailed to federal, state, and local government agencies; elected officials; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this NOI.

Although no formal application has been filed, the FERC staff has already initiated its NEPA review under its pre-filing process. The purpose of the pre-filing process is to encourage early involvement of interested stakeholders and to identify and resolve issues before an application is filed with the FERC. In addition, the Coast Guard, which would be responsible for reviewing the maritime safety and security aspects of the planned project and regulating maritime safety and security if the project is approved, has initiated its review of the project as well.

With this NOI, we are asking federal, state, and local agencies with jurisdiction and/or special expertise with respect to environmental issues, especially those identified in Appendix 2, to express their interest in becoming cooperating agencies for the preparation of the EIS. These agencies may choose to participate once they have evaluated the proposal relative to their responsibilities. Agencies that would like to request cooperating agency status should follow the instructions for filing comments provided in Appendix 2.

Currently Identified Environmental Issues

We have already identified issues that we think deserve attention based on a preliminary review of the project area, the planned facility information provided by AES and Mid-Atlantic Express, and the public open houses sponsored by AES and attended by FERC. This preliminary list of issues, which is presented below, may be revised based on your comments and our continuing analyses.

• Impact of LNG ship traffic on other Chesapeake Bay and Patapsco River users, including fishing and recreational boaters.

• Safety issues relating to LNG ship traffic, including transit through Chesapeake Bay, passage under the Bay Bridge, and transit through the Brewerton Channel to Sparrows Point.

• Potential impacts on residents in the project area, including safety issues at the import and storage facility, noise, air quality, and visual resources.

• Potential impacts of the construction of the LNG terminal and the pipeline on property values.

• Potential impacts of dredging contaminated sediments on water quality and estuarine fishery resources (contaminants may include tri-butyl tin and PCBs).

• Project impacts on threatened and endangered species.

• Project impacts on wetlands, vegetation, and wildlife habitat.

• Project impacts on cultural resources.

Public Participation

You can make a difference by providing us with your specific comments or concerns about the planned project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Magalie R. Salas, Secretary, Federal Energy Regulatory Commission, 888 First St., NE., Room 1A, Washington, DC 20426.

• Label one copy of your comments for the attention of Gas Branch 2, DG2E.

• Reference Docket No. PF06-22-000 on the original and both copies.

• Mail your comments so that they will be received in Washington, DC on or before June 16, 2006. Appropriate copies will be provided to the Coast Guard.

The Commission strongly encourages electronic filing of any comments in response to this NOI. For information on electronically filing comments, please see the instructions on the Commission's Web site at http://www.ferc.gov under the “e-Filing” link and the link to the User's Guide as well as information in 18 CFR 385.2001(a)(1)(iii). Before you can file comments you will need to create a free account, which can be accomplished on-line.

The public scoping meetings (dates, times, and locations listed above) are designed to provide another opportunity to offer comments on the proposed project. Interested groups and individuals are encouraged to attend the meetings and to present comments on the environmental issues that they believe should be addressed in the EIS. A transcript of each meeting will be generated so that your comments will be accurately recorded.

Once AES and Mid-Atlantic Express formally file their application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

If you wish to remain on the environmental mailing list, please return the attached Mailing List Retention Form (Appendix 3 of this NOI). If you do not return this form, we will remove your name from our mailing list.

To reduce printing and mailing costs, the draft and final EIS will be issued in both compact disk (CD-ROM) and hard copy formats. The FERC strongly encourages the use of CD-ROM format in its publication of large documents. Thus, all recipients will automatically receive the EIS on CD-ROM. If you wish to receive a paper copy of the draft EIS instead of a CD-ROM, you must indicate that choice on the return mailer.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-22) in the “Docket Number” field. Be sure you have selected an appropriate date range. For assistance with eLibrary, the eLibrary helpline can be reached at 1-866-208-3676, TTY (202) 502-8659, or by e-mail at FercOnlineSupport@ferc.gov. The eLibrary link on the FERC Internet website also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, AES has established an Internet Web site for this project at http://www.AESsparrowspointLNG.com. The Web site includes a project overview, status, answers to frequently asked questions, and links to related documents. You can also request additional information by calling AES directly at (866) 640-9080.

Magalie R. Salas,
Secretary.

[FR Doc. E6-7888 Filed 5-23-06; 8:45 am]

BILLING CODE 6717-01-P